DEPARTMENT OF THE INTERIOR

National Park Service

National Register of Historic Places; Notification of Pending Nominations and Related Actions

Nominations for the following properties being considered for listing or related actions in the National Register were received by the National Park Service before February 10, 2007.

Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by March 7, 2007.

J. Paul Loether,
Chief, National Register of Historic Places/National Historic Landmarks Program.

FLORIDA

Sarasota County

Nielsen, Lucienne, House, (Sarasota School of Architecture MPS), 3730 Sandspur Ln., Nokomis, 07000163

IDAHO

Canyon County

Nampa Neighborhood Historic District, Old, Roughly bounded by 4th Ave. S, 4th St. S, 11th Ave. S, and 9th Sts. S, Nampa, 07000164

LOUISIANA

St. Tammany Parish

Saint Joseph Abbey Church, 75376 River Rd., Saint Benedict, 07000165

Saint Joseph Abbey Refectory, 75376 River Rd., Saint Benedict, 07000166

MASSACHUSETTS

Middlesex County

Pawtucket Congregational Church, 15 Mammoth Rd., Lowell, 07000167

Plymouth County

Bethel African Methodist Episcopal Church and Parsonage, 6 Sever St., Plymouth, 07000168

MISSISSIPPI

Harrison County

Turkey Creek Community Historic District, Rippy Rd. and environs, Gulfport, 07000173

MISSOURI

Jackson County

Hesse Carriage Company Building, 1700 Oak St., Kansas City, 07000169

Western Newspaper Union Building, 304 W. 10th St., Kansas City, 07000170

St. Louis Independent City

American Brake Company Building, 1920 N. Broadway, St. Louis (Independent City), 07000172

Carondelet School, 8221 Minnesota, St. Louis (Independent City), 07000171

NEBRASKA

Box Butte County

Alliance Commercial Historic District, Roughly along Box Butte Ave., Alliance, 07000180

Douglas County

Broomfield Rowhouse, 2502-2504 Lake St., Omaha, 07000179

Douglas County

Penke, Carl, Farm, 10525 N. 168th St., Bennington, 07000178

Howard County

St. Peder's Dansk Evangelical Lutheran Kirke, 1796 7th Ave., Nysted, 07000177

Sarpy County

Patterson Site, (Archeological Resources of the Metro Omaha Management Unit MPS) Address Restricted, South Bend, 07000176

NORTH DAKOTA

Grand Forks County

Grand Forks Riverside Neighborhood Historic District, N of U.S. 2 (Gateway Dr. and W of the Red River, Grand Forks, 07000181

SOUTH CAROLINA

Aiken County

Aiken Colored Cemetery, Florence St. and Hampton Ave., Aiken, 07000182

Spartanburg County

Evans—Russell House, 716 Otis Blvd., Spartanburg, 07000183

TENNESSEE

Claiborne County

Claiborne County Jail, TN 33 at TN 25E, Tazewell, 07000175

Davidson County

Martin, Dr. Richard and Mrs. Margaret, House, 825 Kenall Dr., Nashville, 07000188

Gibson County

Oakland Cemetery, 800 Brownsville St., Trenton, 07000186

Hamblen County

Leeper Farm, 5878 Leepers Ferry Rd., White Pine, 07000174

Macon County

Belview School, (Education Related Properties of Macon County MPS) Underwood Rd. near Akersville Rd., Underwood, 07000189

Montgomery County

Clarksville Foundry and Machine Works (Boundary Decrease), Commerce St., Clarksville, 07000198

Polk County

Knoxville Southern Railroad Historic District, Former Knoxville Southern Railroad from near Reliance to near Farner, Reliance, 07000187

Sevier County

Settlement School Dormitories and Dwellings Historic District, (Pi Beta Phi Settlement School MPS) 556 Parkway, Gatlinburg, 07000185

Sullivan County

Washington, George, School, 205 E. Sevier Ave., Kingsport, 07000184

VERMONT

Lamoille County

Morrisville Historic District, Portland, Lower Main, Upper Main, Railroad and Foundry Sts., Morristown, 07000196

VIRGINIA

Fauquier County

Marshall Historic District, Inc. parts of Anderson R., Emerald Ln., Frost St., Main St., Rosstown Rd. Wild Aster Ct. and Winchester Rd., Marshall, 07000191

Paris Historic District Area Inc. Federal St. and parts of Republican St. and Gap Run Rd., Paris, 07000192

Hampton Independent City

Chamberlin Hotel, #2 Fenwick Rd., Fort Monroe, Hampton (Independent City), 07000190

Isle Of Wight County

Tynes, Robert, House, 13060 Courthouse Hwy., Smithfield, 07000194

Nelson County

Schuyler Historic District, Crossroads of Schuyler Rd., Salem Rd. and Rockfish River Rd., Schuyler, 07000195

Suffolk Independent City

Mount Sinai Baptist Church, 6100 Holy Neck Rd., Suffolk (Independent City), 07000193

WISCONSIN

Manitowoc County

ROUSE SIMMONS (Shipwreck), (Great Lakes Shipwreck Sites of Wisconsin MPS) 6 mi. off Point Veach, Lake Michigan, 07000197

A request for REMOVAL has been made for the following resource:

TENNESSEE

Meigs County

Meigs County High School Gymnasium, (Meigs County, Tennessee MRA), Brown St., Decatur, 82004005

[FR Doc. E7-3261 Filed 2-23-07; 8:45 am]

BILLING CODE 4312-51-P